DEPARTMENT OF ENERGY

State Energy Advisory Board (STEAB)

AGENCY: Department of Energy.

ACTION: Notice of open teleconference.

SUMMARY: This notice announces a teleconference of the State Energy Advisory Board (STEAB). The Federal Advisory Committee Act (Pub. L. 92-463; 86 Stat. 770) requires that public notice of these teleconferences be announced in the Federal Register.

DATES: May 20, 2009 at 1-2 p.m. EDT.

FOR FURTHER INFORMATION CONTACT: Gary Burch, STEAB Designated Federal Officer, Office of Commercialization and Project Management, Golden Field Office, U.S. Department of Energy, 1617 Cole Boulevard, Golden, CO 80401, Telephone 303-275-4801.

SUPPLEMENTARY INFORMATION: Purpose of the Board: To make recommendations to the Assistant Secretary for the Office of Energy Efficiency and Renewable Energy regarding goals and objectives, programmatic and administrative policies, and to otherwise carry out the Board's responsibilities as designated in the State Energy Efficiency Programs Improvement Act of 1990 (Pub. L. 101-440).

Tentative Agenda: Discuss ways STEAB can support DOE's implementation of the Economic Recovery Act, support commercialization efforts for both energy efficiency and renewable energy, consider potential collaborative activities involving the State Energy Offices, and update members on other routine business matters.

Public Participation: The teleconference is open to the public. Members of the public who wish to make oral statements pertaining to agenda items, or who simply want to listen to the teleconference, should contact Gary Burch at the address or telephone number listed above. Requests to make oral comments must be received five days prior to the teleconference; reasonable provision will be made to include requested topic(s) on the agenda. Written statements may be filed with the Board either before or after the teleconference. The Chair of the Board is empowered to conduct the teleconference in a fashion that will facilitate the orderly conduct of business.

Minutes: The minutes of the teleconference will be available for public review and copying within 60 days on the STEAB Web site, http://www.steab.org.

Issued at Washington, DC, on April 20, 2009.
Rachel Samuel,
Deputy Committee Management Officer.

[FR Doc. E9-9426 Filed 4-23-09; 8:45 am]

BILLING CODE 6450-01-P